DEPARTMENT OF HEALTH AND HUMAN SERVICES

Centers for Disease Control and Prevention

[Program Announcement 05077]

Directors of Health Promotion and Education; Notice of Intent to Fund Single Eligibility Award

A. Purpose

The purpose of this program is to establish, develop, and coordinate the training, and programs required to build health promotion and public health education capacity at the state and territorial level. This will include continuing the strategic planning process for the Association to strengthen the infrastructure for assessment of constituent needs to build health education capacity at the state and territorial level; coordinating capacity at the state and territorial level; coordinating the annual National Conference on Health Education and Health Promotion; strengthening collaborations with national and international level partners; implementing research to practice demonstration activities; developing continuing education and distance-based training; developing leadership and training opportunities; initiating effective communication systems to ensure translation of national initiatives and research to directors of health promotion and education; defining the science-base and skill set for public health practice of health education; and identifying and monitoring state and national trends impacting effective implementation of health promotion and education within state health agencies.

The Catalog of Federal Domestic Assistance number for this program is 93.945.

B. Eligible Applicant

Assistance will only be provided to the Directors of Health Promotion and Education (DHPE). No other applications are solicited. DHPE is the only organization that can provide the services specified under this announcement. Eligibility is limited to DPHE because of its unique relationship with the Association of State and Territorial Health Officials (ASTHO) and other ASTHO affiliates. DHPE is the only national nonprofit health education organization of which program directors and staff representing all states and territories are members. As such, it is uniquely capable, and organized specifically to serve as a leader and a confer of activities relative to State health education programs. DHPE has developed unique knowledge and understanding of the needs and operations of State health agencies. This affiliation with ASTHO is extremely important for the purposes of this cooperative agreement. It enables close coordination of national initiatives, identification of state trends that may impact national programs, and enables partnering with other state health agency departments on cross cutting issues. DHPE is the only affiliate whose primary mission is to promote education and health promotion as core disciplines of public health practice and to advocate for quality health education and health promotion programs and strategies to address the nation's leading health problems. The organization represents both fields of health promotion and health education, as opposed to other public health organizations which have a primary focus on the profession of health education. Health promotion looks more broadly at public health systems, health policy, environmental change, and enhances traditional professional development in health education.

C. Funding

Approximately $1,300,000 is available in FY 2005 to fund this award. It is expected that the award will begin on or before September 30, 2005, and will be made for a 9 ½-month budget period for the first year, but each subsequent budget period will be 12 months in length within a project period of up to five years. Funding estimates may change.

D. Where to Obtain Additional Information

For general comments or questions about this announcement, contact: Technical Information Management, CDC Procurement and Grants Office, 2920 Brandywine Road, Atlanta, GA 30341-4146, Telephone: 770-488-2700.

For technical questions about this program, contact: John M. Korn/Sue Darnell, Project Officer, Division of Adult and Community Health, National Center for Chronic Disease Prevention and Health Promotion, 4770 Buford Highway, NE., MS K30, Telephone: 770-488-5427, 770-488-5305, E-mail: JMK3@cdc.gov, SAD2@CDC.GOV.

Dated: July 21, 2005.
William P. Nichols,
Director, Procurement and Grants Office, Centers for Disease Control and Prevention.

[FR Doc. 05-14786 Filed 7-26-05; 8:45 am]

BILLING CODE 4163-18-P